DEPARTMENT OF ENERGY

Office of Energy Efficiency and Renewable Energy

Finding of No Significant Impact: Energy Conservation Program for Consumer Products

AGENCY: Department of Energy.

ACTION: Finding of no significant impact for amended energy conservation standard for residential central air conditioners and heat pumps.

SUMMARY: The Energy Policy and Conservation Act, as amended by the National Energy Conservation Policy Act and the National Appliance Energy Conservation Act, and the National Appliance Energy Conservation Amendments, prescribes energy conservation standards for certain major household appliances, and requires the Department of Energy (DOE) to administer an energy conservation program for these products. Based on an Environmental Assessment (EA), DOE/EA-1352, and revisions to the EA as documented in Appendix M of the Residential Central Air Conditioner and Heat Pump Technical Support Document (TSD), DOE has determined that the adoption of energy efficiency Trial Standard Level (TSL) 2 for residential central air conditioners and heat pumps, as adopted by the Final Rule entitled the “Energy Conservation Program for Consumer Products: Residential Central Air Conditioners and Heat Pumps Energy Conservation Standards,” would not be a major Federal action significantly affecting the quality of the human environment within the meaning of the National Environmental Policy Act of 1969 (NEPA). Therefore, an environmental impact statement (EIS) is not required, and the Department is issuing this Finding of No Significant Impact (FONSI).

ADDRESSES: Public Availability: Copies of the EA and the TSD are available from: U.S. Department of Energy, Office of Energy Efficiency and Renewable Energy, Forrestal Building, Mail Station EE-41, 1000 Independence Avenue, SW., Washington, DC 20585-0121, (202) 586-9127.

FOR FURTHER INFORMATION CONTACT: Michael Raymond, U.S. Department of Energy, Office of Energy Efficiency and Renewable Energy, Forrestal Building, Mail Station EE-41, 1000 Independence Avenue, SW., Washington, DC 20585-0121, (202) 586-9611.

For further information regarding the DOE NEPA process contact: Carol Borgstrom, Director, Office of NEPA Policy and Assistance (EH-42), 1000 Independence Avenue, SW., Washington, DC 20585-0119, (202) 586-4600.

SUPPLEMENTARY INFORMATION: Description of the Proposed Action: The proposed action is the establishment of a revised energy conservation standard (TSL 2) for residential central air conditioners and heat pumps.

Environmental Impacts: The EA and TSD evaluate the environmental impacts of a range of new energy conservation standards for residential central air conditioners and heat pumps. The results are presented for each potential trial standard level. Each potential trial standard level is an alternative action, and the environmental impacts of each alternative are compared to what would be expected to happen if no new standard were adopted, i.e., the “no action” alternative.

The main environmental impact is decreased emissions from fossil-fueled electricity generation. All of the minimum efficiency levels considered for this appliance product category would result in decreased electricity use and, therefore, a reduction in power plant emissions. The proposed efficiency standard would generally decrease air pollution by decreasing future energy demand. The environmental analysis considers two pollutants, nitrogen oxides (NOX) and sulfur dioxide (SO2), and one emission, carbon. The results of the analysis show an estimated cumulative reduction of 24.2 million tons of carbon equivalent emissions and 83.2 thousand tons NOX for TSL 2 through the year 2020. This would be a national reduction of 0.17% of carbon equivalent emissions, and 0.08% of NOX. Because emissions of SO2 from power plants are capped by clean air legislation, physical emissions of this pollutant from electricity generation will be only minimally affected by residential central air conditioners and heat pumps standards. The maximum SO2 allowed by law will most likely still be produced, but because SO2 emissions are traded, and if SO2 emissions are lowered due to less power generation, then the cost of SO2 emission credits may decrease slightly. Therefore, the EA did not consider changes in power sector SO2 emissions because they will be negligible.

Determination

Based upon the EA, DOE has determined that the adoption of the proposed energy efficiency standard for residential central air conditioners and heat pumps would not constitute a major Federal action significantly affecting the quality of the human environment, within the meaning of NEPA. Therefore, an EIS is not required, and the Department is issuing this FONSI.

Issued in Washington, DC, on May 14, 2002.
David K. Garman,
Assistant Secretary, Energy Efficiency and Renewable Energy.

[FR Doc. 02-12681 Filed 5-22-02; 8:45 am]

BILLING CODE 6450-01-P